DEPARTMENT OF ENERGY

Federal Energy Regulatory Commission

[Project No. 13884-002]

Pennamaquan Tidal Power, LLC; Notice of Preliminary Permit Application Accepted for Filing And Soliciting Comments, Motions To Intervene, and Competing Applications

On March 12, 2014, Pennamaquan Tidal Power, LLC filed an application for a successive preliminary permit, pursuant to section 4(f) of the Federal Power Act (FPA), proposing to study the feasibility of the Pennamaquan Tidal Power Plant Project to be located on the Pennamaquan River and Cobscook Bay, Washington County, Maine. The sole purpose of a preliminary permit, if issued, is to grant the permit holder priority to file a license application during the permit term. A preliminary permit does not authorize the permit holder to perform any land-disturbing activities or otherwise enter upon lands or waters owned by others without the owners' express permission.

The proposed project would consist of: (1) A new tidal barrage extending from Leighton Neck to Hersey Neck consisting of: (a) Two 5-foot-thick concrete walls, one 545-foot-long and one 135-foot-long, located in the intertidal area at each end of the barrage; (b) six 82-foot-long, 10-foot-thick concrete modular wall panels extending about 22 feet above mean low tide; (c) a new 438-foot-long, 91-foot-high concrete powerhouse with 16 reversible bulb generating units with a total capacity of 24.0 megawatts; (d) a new steel 65-foot-long, 44-foot-wide boat lock integral with the powerhouse; (2) a tidal basin (i.e., impoundment) with a surface area of 489 acres at low tide and 862 acres at high tide; (3) a new 328-foot-long utility road providing access from Hersey Neck to the powerhouse; and (4) a new 35 kilovolt, 2.5-mile-long transmission line to Emera Maine's substation in Pembroke, Maine. The project would produce an estimated average annual generation of 80,000 megawatt-hours.

Applicant Contact: Andrew Landry, 45 Memorial Circle, PO Box 1058, Augusta, ME 04332, phone: (207) 791-3191, email: alandry@preti.com.

FERC Contact: Dr. Nicholas Palso. (202) 502-8854 or nicholas.palso@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13884-002.

More information about this project, including a copy of the application, can be viewed or printed on the “eLibrary” link of the Commission's Web site at http://www.ferc.gov/docs-filing/elibrary.asp. Enter the docket number (P-13884) in the docket number field to access the document. For assistance, contact FERC Online Support.

Dated: April 1, 2014.
Kimberly D. Bose,
Secretary.

[FR Doc. 2014-07693 Filed 4-4-14; 8:45 am]

BILLING CODE 6717-01-P